DEPARTMENT OF THE INTERIOR

Fish and Wildlife Service

Endangered Species Permit Applications

AGENCY: Fish and Wildlife Service, Interior.

ACTION: Notice of receipt of permit applications.

SUMMARY: The following applicants have requested renewal of scientific research and enhancement of survival permits to conduct certain activities with endangered species pursuant to section 10(a)(1)(A) of the Endangered Species Act of 1973, as amended (16 U.S.C. 1531 et seq.).

Permit No. TE-051139

Applicant: Turner Endangered Species Fund, Cimarron, New Mexico.

The applicant requests a renewed permit to take black-footed ferrets (Mustela nigripes) in conjunction with recovery activities throughout the species' range for the purpose of enhancing its survival and recovery.

Permit No. TE-051140

Applicant: St. Louis Zoological Park, St. Louis, Missouri 63110.

The applicant requests a renewed permit to take Wyoming toads (Bufo hemiophrys baxteri) in conjunction with recovery activities throughout the species' range for the purpose of enhancing its survival and recovery.

Permit No. TE-049748

Applicant: Dr. Todd Crowl, Utah State University, Logan, Utah 84322.

The applicant requests a renewed permit to take razorback suckers (Xyrauchen texanus), Colorado pikeminnows (Ptychocheilus lucius), bonytail chub (Gila elegans), and June suckers (Chasmistes liorus) in conjunction with recovery activities throughout the species' range for the purpose of enhancing their survival and recovery.

Permit No. 047252

Applicant: Trent Miller, SWCA, Inc., Environmental Consultants, Westminister, Colorado 80031.

The applicant requests a renewed permit to take black-footed ferrets (Mustela nigripes) in conjunction with recovery activities throughout the species' range for the purpose of enhancing its survival and recovery.

Permit No. TE-045150

Applicant: Dr. William W. Hoback, University of Nebraska at Kearney, Kearney, Nebraska 68849.

The applicant requests a renewed permit to take American burying beetles (Nicrophorus americanus) in conjunction with recovery activities throughout the species' range for the purpose of enhancing its survival and recovery.

DATES: Written comments on these requests for permits must be received February 11, 2002.

ADDRESSES: Written data or comments should be submitted to the Assistant Regional Director—Ecological Services, U.S. Fish and Wildlife Service, P.O. Box 25486, Denver Federal Center, Denver, Colorado 80225-0486; telephone 303-236-7400, facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

Dated: December 20, 2001.
Ralph O. Morgenweck,
Regional Director, Denver, Colorado.

[FR Doc. 02-603 Filed 1-9-02; 8:45 am]

BILLING CODE 4310-55-P